DEPARTMENT OF LABOR

Employment and Training Administration

[TA-W-52,748]

Honeywell Industry Solutions, Power Generation, Phoenix, AZ; Notice of Termination of Investigation

Pursuant to section 221 of the Trade Act of 1974, as amended, an investigation was initiated on September 3, 2003 in response to a worker petition filed on behalf of workers at Honeywell Industry Solutions, Power Generation, Phoenix, Arizona.

The petitioners have requested that the petition be withdrawn. Consequently, the investigation has been terminated.

Signed at Washington, DC this 2nd day of October, 2003.
Elliott S. Kushner,
Certifying Officer, Division of Trade Adjustment Assistance.

[FR Doc. 03-29378 Filed 11-24-03; 8:45 am]

BILLING CODE 4510-30-P